DEPARTMENT OF TRANSPORTATION

Federal Aviation Administration

FAA Approval of Noise Compatibility Program; Boise Air Terminal (Gowen Field) Boise, Idaho

AGENCY: Federal Aviation Administration, DOT.

ACTION: Notice.

SUMMARY: The Federal Aviation Administration (FAA) announces its findings (Record of Approval) on the noise compatibility program submitted by the City of Boise, Idaho for the Boise Air Terminal (Gowen Field) under the provisions of 49 U.S.C. (the Aviation Safety and Noise Abatement Act, hereinafter referred to as “the Act”) and 14 CFR part 150 (Part 150). On May 2, 2016, the FAA determined that the noise exposure maps submitted by the City of Boise for the Boise Air Terminal under Part 150 were in compliance with applicable requirements. On August 24, 2016 the FAA approved the Boise Airport Noise Compatibility Program. Seven of the 13 measures recommended in the noise compatibility plan were approved and six measures were disapproved for the purposes of Part 150. In addition, 22 measures were included in the noise compatibility plan that requested no FAA action as they were approved in a previous record of approval, were removed from consideration, or disapproved in a previous record of approval. These measures and FAA's associated determinations are summarized in the attachment to the Record of Approval.

DATES: Effective Date: The effective date of the FAA's approval of the Boise Airport Noise Compatibility Program is August 24, 2016.

FOR FURTHER INFORMATION CONTACT: Scott Eaton, Federal Aviation Administration, Helena Airports District Office, FAA Building, Suite 2, 2725 Skyway Drive, Helena, MT 59602-1213, telephone 406-449-5291. Documents reflecting this FAA action may be reviewed at this same location.

SUPPLEMENTARY INFORMATION: This notice announces that the FAA has given its overall approval to the noise compatibility program for the Boise Air Terminal, effective August 24, 2016.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with the Part 150 regulations is a local program, not a Federal program. The FAA does not substitute its judgment for that of the airport proprietor with respect to which measures should be recommended for action. The FAA's approval or disapproval of Part 150 program recommendations is measured according to the standards expressed in Part 150 and the Act and is limited to the following determinations:

a. The noise compatibility program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in Part 150, section 150.5. Approval is not a determination concerning the acceptability of land uses under Federal, state, or local law. Approval does not by itself constitute an FAA implementing action. A request for Federal action or approval to implement specific noise compatibility measures may be required, and an FAA decision on the request may require an environmental review of the proposed action. Approval does not constitute a commitment by the FAA to financially assist in the implementation of the program nor a determination that all measures covered by the program are eligible for grant-in-aid funding from the FAA. Where federal funding is sought, requests for project grants must be submitted to the FAA Helena Airports District Office in Helena, Montana. The City of Boise submitted to the FAA on December 21, 2015, the noise exposure maps, descriptions, and other documentation produced during the noise compatibility planning study for the Boise Air Terminal conducted in 2014 and 2015. The Boise Air Terminal noise exposure maps were determined by FAA to be in compliance with applicable requirements on May 2, 2016.

Notice of this determination was published in the Federal Register on May 10, 2016 (FR Volume 81, No. 90, pages 28933-28934) and as corrected on May 16, 2016 (FR Volume 81, No. 94, pages 30414-30415).

Comments received during the noise compatibility planning public process were addressed in the final noise compatibility program submitted to FAA. In addition, seven sets of comments were received during the 60-day public comment period for the Boise Airport Noise Compatibility Program that ended July 1, 2016. None of the comments warranted any changes to the NCP. The comment letters and the responses to the comments, which were reviewed and acceptable to FAA, are posted on the airport's Web site at http://www.iflyboise.com/about-boi/noise-compatibility-program/.

The majority of the comments received during the 60-day comment period for the noise compatibility program regarded military aircraft. It is important to note that the Part 150 study process has no bearing on whether or not, or what type of military jets will be stationed at the Boise Air Terminal in the future. Since the future of the Idaho Air National Guard (IDANG) current A-10 mission is uncertain, the Boise Air Terminal, in conjunction with IDANG, prepared a hypothetical future forecast using the F-15E as a potential replacement for the A-10. However, the Department of the Air Force has not yet determined IDANG's follow-on mission after A-10 divestiture and therefore the sponsor lacked sufficient data to confirm the F-15E as the replacement for the A-10. It was noted in the Part 150 study that there are transient F-15E's that use the Boise Air Terminal throughout the year. Acknowledging this, the sponsor developed the 2015 noise exposure maps to include the transient F-15E Strike Eagles, among many other existing Boise Air Terminal aircraft, in the Noise Model. All measures proposed in the noise compatibility program are based on the current year noise exposure maps and not on future noise exposure maps as they are considered speculative at this time as well. The Record of Approval also does not specifically tie the proposed noise mitigation measures to the 2015 noise exposure maps as shown in the Part 150 Study. When the fleet mix and/or operational levels at the Boise Air Terminal change, the sponsor will update the noise exposure maps to reflect that change in accordance with Part 150 regulations. Furthermore, any change in aircraft by the Department of Defense will require compliance with the National Environmental Policy Act (NEPA).

The Boise Air Terminal study contains a proposed noise compatibility program comprised of actions designed for phased implementation by airport management and adjacent jurisdictions. It was requested that the FAA evaluate and approve this material as a noise compatibility program as described in section 47504 of the Act. The FAA began its review of the program on December 13, 2015, and was required by a provision of the Act to approve or disapprove the program within 180 days (other than the use of new or modified flight procedures for noise control). Failure to approve or disapprove such program within the 180-day period shall be deemed to be an approval of such program.

The submitted program contained 1 noise abatement measure and 12 noise mitigation/land use compatibility measures recommendations for FAA action. The FAA completed its review and determined that the procedural and substantive requirements of the Act and Part 150 have been satisfied. The overall program therefore, was approved by the FAA on August 24, 2016.

Approval was granted for 7 of the 13 measures and 6 measures were disapproved for the purposes of Part 150. In addition, 22 measures were included in the noise compatibility plan that requested no action by FAA as they were approved in a previous record of approval, were removed from consideration, or disapproved in a previous record of approval. These measures and FAA's associated determinations are summarized in the attachment to the Record of Approval.

These determinations are set forth in detail in a Record of Approval signed by the Airports Division Manager, Northwest Mountain Region on August 24, 2016. The Record of Approval, as well as other evaluation materials and the documents comprising the submittal are available for review at the FAA office listed above and at the Boise Air Terminal (Gowen Field), 3201 Airport Way, Boise, ID 83705. The Record of Approval also will be available on-line at http://www.faa.gov/airports/environmental/airport_noise/part_150/states/.

Issued in Renton, Washington on August 24, 2016.
Randall S. Fiertz,
Manager, Airports Division, Northwest Mountain Region.

[FR Doc. 2016-21105 Filed 8-31-16; 8:45 am]

BILLING CODE 4910-13-P